ENVIRONMENTAL PROTECTION AGENCY

[FRL-6531-3]

Virginia's Continuing Planning Process (CPP)

AGENCY: Environmental Protection Agency (EPA).

ACTION: Notice of availability and public comment.

SUMMARY: The Environmental Protection Agency (EPA) is providing public notice of the availability of Virginia's Continuing Planning Process (CPP). The following processes, at a minimum, must be described in the CPP: the process for the development of effluent limitations and schedules of compliance at least as stringent as those required by section 301(b)(1), section 301(b)(2), section 306, and section 307 of the Clean Water Act (“CWA” or “Act”), and at least as stringent as any requirements contained in any applicable water quality standard in effect under authority of section 303 of the Act; the process for the incorporation of all elements of any applicable areawide waste management plans under section 208 of the Act, and applicable basins plans under section 209 of the Act; the process for developing total maximum daily loads for pollutants in accordance with subsection (d) of section 303 of the Clean Water Act; procedures for revision; the process for adequate authority of intergovernmental cooperation; adequate implementation, including schedules of compliance, for revised or new water quality standards, under subsection (c) of section 303 of the Act; the process for the controls over the disposition of all residual waste from any water treatment processing; the process for developing an inventory and ranking, in order of priority, of needs for construction of waste treatment works required to meet the applicable requirements of sections 301 and 302 of the Clean Water Act.

The public comment period will be open until September 1, 2000. EPA intends to complete its preliminary review and submit comments on the CPP, to Virginia and others, including interested parties requesting a copy of such comments, by May 1, 2000. By November 1, 2000, EPA shall complete its review of Virginia's CPP to determine if it is consistent with the Clean Water Act and its implementing regulations. EPA will provide a summary of its review to Virginia and others, including interested parties requesting a copy of such summary.

DATES: Comments must be received on or before September 1, 2000.

ADDRESSES: Submit comments to Lenka Berlin (3WP13), Water Protection Division, USEPA Region III, 1650 Arch Street, Philadelphia, PA 19103.

FOR FURTHER INFORMATION CONTACT: For a copy of Virginia's Continuing Planning Process contact Lenka Berlin by phone (215-814-5259), fax (215-814-2301), or by email (berlin.lenka@epamail.epa.gov).

Dated: January 20, 2000.
Jon Capacasa,
Director, Water Protection Division, Region III.

[FR Doc. 00-2182 Filed 2-1-00; 8:45 am]

BILLING CODE 6560-50-M